FEDERAL COMMUNICATIONS COMMISSION

47 CFR Part 26

[WT Docket No. 24-687; DA 25-269; FRS 289896]

Wireless Telecommunications Bureau Announces Mechanism and Criteria for Selecting Space Launch Frequency Coordinator

AGENCY: Federal Communications Commission.

ACTION: Final action.

SUMMARY: In this document, the Wireless Telecommunications Bureau (WTB or Bureau) announces a mechanism and criteria for selecting the Space Launch Frequency Coordinator for the Federal Communications Commission's (Commission) Space Launch Service. Specifically, interested parties will file applications electronically using the Commission's Electronic Comment Filing System in WT Docket 24-687, through which they will demonstrate certain minimum qualifying criteria.

ADDRESSES: Federal Communications Commission, 45 L St. NE, Washington, DC 20554.

FOR FURTHER INFORMATION CONTACT: Mark DeSantis, Wireless Telecommunications Bureau, Mobility Division, (202) 418-0678 or mark.desantis@fcc.gov. For information regarding the PRA information collection requirements, contact Cathy Williams, Office of Managing Director, at 202-418-2918 or Cathy.Williams@fcc.gov.

SUPPLEMENTARY INFORMATION: This is a summary of the WTB document, WT Docket No. 24-687; DA 25-269, released on March 25, 2025. The released, formatted version of this document is available at https://docs.fcc.gov/public/attachments/DA-25-269A1.pdf. Text and Microsoft Word formats are also available (replace “.pdf” in the link with “.txt” or “.docx”, respectively. Alternative formats are available for people with disabilities (braille, large print, electronic files, audio format), by sending an email to fcc504@fcc.gov or call the Commission's Consumer and Governmental Affairs Bureau at (202) 418-0530 (voice), (202) 418-0432 (TTY).

Supplemental Initial Regulatory Flexibility Analysis

The Regulatory Flexibility Act of 1980, as amended (RFA), requires that an agency prepare a regulatory flexibility analysis for notice and comment rulemakings, unless the agency certifies that the rule will not, if promulgated, have a significant economic impact on a substantial number of small entities.” If an agency files a certification with a rulemaking, the certification must contain a statement that provides a factual basis for its conclusion that there will not be significant economic impact on a substantial number of small entities. Accordingly, the Commission has prepared a Final Regulatory Flexibility Certification (FRFC) certifying that the rule and policy changes contained in this document will not have a significant economic impact on a substantial number of small entities.

Paperwork Reduction Act Analysis

This document may contain new or modified information collection requirements subject to the Paperwork Reduction Act of 1995 (PRA), Public Law 104-13. All such requirements will be submitted to the Office of Management and Budget (OMB) for review under section 3507(d) of the PRA. OMB, the general public, and other federal agencies will be invited to comment on any new or modified information collection requirements contained in this proceeding. In addition, pursuant to the Small Business Paperwork Relief Act of 2002, Public Law 107-198, see 44 U.S.C. 3506(c)(4), the Bureau previously sought specific comment on how the Commission might further reduce the information collection burden for small business concerns with fewer than 25 employees.

Synopsis

By this document, as directed by the Commission in the Third Report and Order (90 FR 11480-01, March 7, 2025) in this proceeding, the Bureau establishes a mechanism and criteria for selecting the third-party frequency coordinator for the part 26 commercial Space Launch Service. Specifically, the Bureau sets forth an application process and required contents for applications from parties requesting to be certified as the space launch frequency coordinator, and sets forth minimum qualifying criteria for such applicants. The Bureau issues this document at this time as part of an effort to meet the statutorily mandated deadlines set forth in the Launch Communications Act.

I. Background

In the Second Report and Order (89 FR 63296-01, August 5, 2024) in this proceeding, the Commission adopted a new secondary allocation in the 2,025-2,110 MHz band for non-federal Space Operation and, with respect to the 2,200-2,290 MHz band, lifted a prior restriction limiting such operations to four sub-bands, thus making the entire band available on a secondary basis for non-federal Space Operation. These allocations are subject to various conditions, including being limited to pre-launch testing and space launch operations. The Commission also adopted a licensing framework for these two bands under a new part 26 Space Launch Service. Through that framework, eligible space launch operators seeking authorization in the Space Launch Service will: (1) apply for and obtain a non-exclusive nationwide license via the Commission's Universal Licensing System (ULS); (2) register in ULS each launch site and each corresponding station (fixed, base, itinerant, or mobile) that will be used in their space launch operations; (3) complete a frequency coordination process using a third-party frequency coordinator; and (4) following successful coordination, register in ULS the technical and operating parameters associated with each specific coordinated launch prior to commencing operations. A space launch operator must register the final coordinated technical parameters in ULS to be authorized to commence launch operations.

The Launch Communications Act. Following the Commission's adoption of the Second Report and Order, Congress enacted the Launch Communications Act (LCA) on September 26, 2024. The LCA requires Commission action with respect to three frequency bands: the 2,025-2,110 MHz and 2,200-2,290 MHz bands that were the subject of the Second Report and Order, and the 2,360-2,395 MHz band, upon which the Commission sought comment in the Second Further Notice, and that was addressed in the Third Report and Order. The LCA first requires the Commission, within 90 days of the LCA's enactment, to allocate each of these bands on a secondary basis for commercial space launches and reentries and to complete any proceeding in effect related to the adoption of service rules for these three bands. The Commission also must issue, within 180 days of the LCA's enactment, new regulations to streamline the process for granting authorizations for access to these three bands. These regulations must provide for, among other things: (1) authorizations that include multiple uses of the frequencies for multiple launches and reentries from one or more private and federal launch and reentry sites; (2) electronic filing and processing of applications for access to such frequencies for commercial space launches and reentries; and (3) improved coordination with the National Telecommunications and Information Administration (NTIA) to increase the speed of review of applications for authorizations to access frequencies for space launch and reentry through increased automation similar to an approach currently used for the 70/80/90 GHz bands.

Delegations of Authority. In the Second Report and Order, the Commission delegated authority to the Bureau to issue a public notice proposing and seeking comment on issues related to the licensing framework for the Space Launch Service to refine the application process and accommodate frequency coordination, including required information for license registrations and frequency coordination requests. The Commission also delegated authority to the Bureau to issue a public notice seeking further comment on the designation of the third-party space launch coordinator, including a mechanism for its selection. The Bureau issued both of these public notices on December 6, 2024. In the Frequency Coordinator Comment PN (89 FR 104499-01, December 23, 2024), the Bureau proposed and sought comment on the mechanism for selecting the space launch frequency coordinator and the minimum industry and technical expertise that parties interested in being designated as the space launch frequency coordinator must demonstrate. The Bureau proposed that the applicant selected from this process to serve as the space launch frequency coordinator would be required to execute a Memorandum of Understanding (MOU) with the Commission, formally memorializing its duties and obligations.

Third Report and Order. On December 23, 2024, the Commission issued a Third Report and Order that reallocated the third band, 2,360-2,395 MHz, on a secondary basis for non-federal Space Operation and incorporated the band into its part 26 Space Launch Service framework. The Commission satisfied the 90-day LCA requirement to complete any proceeding in effect through a combination of: (1) previously adopting the Second Report and Order, thereby creating the part 26 licensing framework for authorizing commercial space launches and commercial space reentries and allocating the 2,025-2,110 MHz and 2,200-2,290 MHz bands for non-federal Space Operation on a secondary basis; and (2) adopting the Third Report and Order, which allocated the 2,360-2,395 MHz band on a secondary basis for non-federal Space Operation, and extended the part 26 licensing framework to that band. The Commission in the Third Report and Order also affirmed the Bureau's proposals in the Frequency Coordinator Comment PN and, expanding on the delegation provided in the Second Report and Order, delegated it authority to establish a mechanism and criteria for the Bureau to select the space launch frequency coordinator responsible for coordinating requests to operate in all three bands identified in the LCA.

II. Discussion

We received four comments and three ex parte letters in response to the Frequency Coordinator Comment PN. After reviewing the record, the Bureau adopts herein an application process and minimum qualifying criteria for parties interested in being selected as the space launch frequency coordinator. As discussed below, interested parties shall submit applications in the Commission's Electronic Comment Filing System (ECFS) using WT Docket No. 24-687. Further, applicants must demonstrate in their applications the extent to which they meet minimum qualifying criteria, including a willingness and capability to complete coordination using machine-to-machine interface with any NTIA automated coordination process, a key objective of the LCA. The selected applicant will be required to execute an MOU with the Commission.

A. Mechanism for Selection of the Space Launch Frequency Coordinator

Application Mechanism. In the Frequency Coordinator Comment PN, the Bureau proposed and sought comment on the mechanism for selecting the space launch frequency coordinator, as well as the minimum industry and technical expertise that parties interested in being designated as the space launch frequency coordinator must demonstrate. Specifically, we proposed to rely on a mechanism for the Bureau to select a third-party frequency coordinator similar to those that have been successfully implemented in other radio services where the Bureau was tasked with designating a single frequency coordinator. Following those prior examples, we proposed to require interested parties to file applications electronically using ECFS in WT Docket 24-687 with the following information:

1. A description of the entity requesting to be the space launch frequency coordinator and its qualifications, including how it meets or will meet minimum qualifying criteria ultimately specified by the Bureau;

2. How the applicant will prevent conflicts of interest;

3. A proposed fee structure; and

4. The length of time before the applicant will be able to begin duties as the space launch frequency coordinator.

We received no comments addressing the vehicle for accepting applications, and we adopt our proposal for applicants to submit their applications in ECFS in WT Docket 24-687. We also adopt the four required application contents as proposed. Information regarding the minimum qualifying criteria and how applicants will demonstrate those criteria are outlined below.

Conflicts of Interest. We sought comment on how to ensure that the space launch frequency coordinator administers its responsibilities in a neutral and non-discriminatory manner. The Aerospace and Flight Test Radio Coordinating Council, Inc. (AFTRCC) suggests that an applicant should explain what it will treat as a conflict and how it will prevent those conflicts, including any details regarding its experience dealing with such issues if it is an existing coordinator. Further, AFTRCC proposes that incumbent coordinators that apply to become the space launch frequency coordinator explain how they envision distinguishing between the carrying out of their duties as the space launch frequency coordinator and their existing duties in the bands they already coordinate. Virgin Galactic proposes that applicants be required to disclose any relationships they hold with FCC licensees.

Based on the record, we find it in the public interest to require each applicant to describe any interest held in FCC licenses, including interests held through a subsidiary or affiliate, and similarly adopt a requirement that applicants disclose how it will prevent personal or organizational conflicts of interest. To that end, we find it appropriate to require applicants to disclose any interests, activities, or relationships involving FCC licensees that may implicate personal or organizational conflicts of interest. We also will require applicants to disclose any interests, activities, or relationships specifically involving space launch operators that may implicate personal or organizational conflicts of interest. We confirm that each applicant must explain in detail how it will carry out its duties as space launch frequency coordinator in a neutral and nondiscriminatory manner. As raised by AFTRCC, we find it particularly relevant that an applicant proposing to serve as the space launch frequency coordinator while also serving as a frequency coordinator for a different Commission radio service fully explain how it will carry out its dual roles in a neutral and non-discriminatory manner. Though we require a demonstration with each application, we provide applicants flexibility with respect to the supporting details. For example, applicants are free to describe, as commenters suggest, any existing policies or those that will be implemented, such as publicly posting their coordination policies and points of contact, providing clear procedures for licensees to file a complaint regarding coordination, and any internal procedures for responding to complaints.

Fee Structure. We sought comment in the Frequency Coordinator Comment PN on whether the Bureau should impose any limits on the space launch frequency coordinator's fee structure, including whether it can charge fees on a per-application basis. AFTRCC suggests that the space launch frequency coordinator should have flexibility in establishing its proposed fee structure, provided it clearly explains the structure in its application. AFTRCC explains that each applicant's proposed fee structure will make clear on its own how those fees will be applied on a neutral and non-discriminatory basis. Federated Wireless supports our proposal to require applicants to disclose their fee structures. No other commenter addressed this issue.

We agree with AFTRCC regarding the need to afford the coordinator flexibility in charging fees, recognizing the complexity of facilitating space launch coordination with federal and non-federal incumbent users across multiple frequency bands. We find it in the public interest to require, as proposed, that frequency coordination fees be applied in a neutral and non-discriminatory manner, and that fees be reasonable. Consistent with the Commission's approach in the “white space” database context, the Bureau will, upon request, review the space launch frequency coordinator's fees and require changes to those fees if they are found to be excessive.

To properly evaluate an application, we will require each applicant to provide and clearly explain its proposed fee structure, while also describing how it will assess fees in a neutral and non-discriminatory manner. Consistent with our approach to wireless medical telemetry frequency coordination, we will permit the space launch frequency coordinator to determine an appropriate fee structure, and do not mandate that fees be limited to recovery of costs on a not-for-profit basis. We note, however, that an applicant may indicate whether it intends to provide space launch coordination services on a not-for-profit basis, which we will consider as a factor in evaluating applications. An applicant seeking to become the space launch frequency coordinator on a for-profit basis must include a description of its anticipated costs, as well as the proposed mark-up for services to be provided. If an applicant proposes to collect the fees charged by incumbent non-federal coordinators, in addition to its own fees, it must explain how it will collect and distribute the fees charged by incumbent coordinators.

As part of our decision to allow the space launch frequency coordinator flexibility in charging and administering its fees, we decline to adopt AFTRCC's suggestion to require the frequency coordinator to publicly post its fees. AFTRCC also requests that we impose certain administrative requirements on the space launch frequency coordinator, such as the requirement that point(s) of contact be clearly posted on the coordinator's website, as well as clear procedures for users to lodge a complaint or concern with the coordinator. We decline to mandate these specific details, finding it appropriate for the space launch frequency coordinator to have flexibility in providing its coordination services. As noted above, however, we encourage applicants to detail any such administrative policies currently in place or that they will implement as part of a demonstration as to how they will provide frequency coordination services in a neutral and non-discriminatory manner.

Deadline for Provision of Service. We sought comment on whether to impose a deadline by which an applicant must be able to begin its duties as the space launch frequency coordinator. No commenter specifically addressed this issue. AFTRCC does, however, suggest that the selected frequency coordinator have 150 days to develop any necessary interfaces upon notice from NTIA that NTIA's automated mechanism is operational. At this time, we decline to adopt a specific deadline or timeframe for the space launch frequency coordinator to commence service, consistent with our approach in other frequency coordinator selection processes. We will establish the date by which the selected frequency coordinator must commence service as a term in the MOU executed with the Commission as addressed below, taking into consideration the status of NTIA's development and implementation of an automated mechanism.

Memorandum of Understanding. The Bureau proposed that the applicant selected from this process to serve as space launch frequency coordinator would be required, consistent with precedent, to execute an MOU with the Commission formally memorializing its duties and obligations. Commenters support this approach and we received no objections. Accordingly, we adopt our proposal.

B. Minimum Qualifying Criteria

In addition to the mechanism for selecting the coordinator, we proposed and sought comment on minimum qualifying criteria for entities interested in being designated as the space launch frequency coordinator. We proposed that interested parties be required to demonstrate in their applications the extent to which they meet the following qualifications:

1. Ability to implement a mechanism to receive technical data from licensees and maintain a database of transmitter locations and operational parameters;

2. Knowledge of or experience with wireless telemetry;

3. Knowledge of or experience with space launch and aerospace transmissions;

4. Technical expertise in analyzing and avoiding interference between licensees/operators in various frequency bands;

5. Knowledge of frequency coordination processes;

6. Willingness and capability to complete coordination using machine-to-machine interface with any NTIA automated coordination process, and the ability to promptly notify the licensee of the response from the automated coordination process;

7. Ability to address requests for operation at launch sites that potentially could be located anywhere in the United States and its territories; and

8. Experience analyzing and interpreting FCC rules and policies.

After review of the record, we find it in the public interest to adopt the above minimum qualifying criteria proposed in the Frequency Coordinator Comment PN. After fully considering commenter suggestions, we discuss and clarify below potential approaches to demonstrating how such criteria can be met.

As an initial matter, we note that SpaceX reiterates its overarching view, initially expressed in response to the Licensing and Coordination Comment PN (89 FR 104502-01, December 23, 2024) that the Commission remove unnecessary complexity in its current and proposed rules. SpaceX states that the Commission could achieve this by “consolidating initial site and station registration, per-launch coordination, and final coordinated parameter registration within the third-party frequency coordinator, rather than by bifurcating initial registration, coordination, and final registration across the coordinator and the Commission's 1990s-era Universal Licensing System (ULS).” As reflected in today's Licensing and Coordination Procedures PN, we find that requests seeking fundamental changes to the adopted part 26 licensing framework are outside the scope of the Bureau's delegated authority derived from the Second Report and Order and Third Report and Order.

SpaceX also requests, however, certain modifications to the Bureau's proposals that we deem within our delegated authority, for example, that a space launch frequency coordinator applicant be required to: (1) demonstrate that it “can and will facilitate coordination between spectrum users in the most efficient, expeditious and unbiased manner possible to keep pace with increasing launch cadence and growing demand . . .”; (2) demonstrate that “the system minimizes the process steps and manual intervention necessary to coordinate and re-coordinate individual launches . . .”; and (3) provide an explanation as to “how their solution minimizes the risk of vendor `lock-in' ” so as to avoid “trap[ping] agencies and end users in outdated, inefficient, and expensive proprietary tools for years or even decades.” We agree that a demonstration addressing these points could support an applicant's contention that it meets the minimum qualifying criteria set forth above to be selected as the space launch frequency coordinator. We recognize that certain proprietary decisions regarding database implementation will be informed by the requirement to be capable of interfacing with an NTIA automated mechanism under development. We nonetheless encourage applicants to fully discuss how their proposed frequency coordination strategies, policies, and solutions can maximize efficiencies in a commercial space launch environment with increasing cadence, while remaining flexible to adapt to, and accommodate, future innovation.

Commenters also suggest that we add specific types of experience as minimum qualifying criteria that applicants must possess to be considered as the space launch frequency coordinator. For example, Virgin requests that we adopt as part of any minimum qualifying criteria experience with orbital and suborbital missions, knowledge of frequency coordination processes in Space Launch Delta 30 and Space Launch Delta 45, and experience in high-cadence operations at other federal or military test ranges with specialized or localized processes. SBE asserts that an additional minimum qualifying criterion should be relevant experience resolving disputes between industry stakeholders. AFTRCC argues we should give additional weight to certain criteria over others, such as experience coordinating space launch operations.

Rather than weighting the adopted criteria, we conclude that it is in the public interest to evaluate each application encompassing the totality of factors, with careful consideration of how the applicant meets each qualifying criterion. In addition, we received comments in response to the Licensing and Coordination Comment PN expressing concern regarding the submission of what commenters describe as “sensitive and/or proprietary information” to the space launch frequency coordinator. We need not address here the potential sensitive or propriety nature of any information related to commercial space launch operations, which under Commission rules is a fact-specific determination. We generally find merit, however, in requiring a prospective space launch frequency coordinator, as an additional minimum qualifying criterion, to demonstrate the willingness and ability to secure the information submitted by part 26 applicants and, unless otherwise required by law, to share such information only with NTIA/related incumbent federal coordinators, the government agencies comprising the Interdepartment Radio Advisory Committee, the Commission, and applicable non-federal frequency coordinators necessary to complete frequency coordination.

With respect to the specific coordination experience commenters believe the space launch frequency coordinator should demonstrate, we clarify that an applicant is free to provide information supporting any relevant experience in those areas. We find it unnecessary, however, to establish as a minimum qualifying criterion that the coordinator possess a particular level of experience, as doing so might decrease the potential pool of applicants for consideration as the space launch frequency coordinator. In this vein, we encourage applicants to describe their experience with specific spaceports and launch ranges, if applicable, as well as any experience coordinating suborbital missions, and we will factor such experience in assessing an application. We will also take into account any relevant dispute resolution experience with relevant stakeholders that an applicant can demonstrate.

We next sought comment on how applicants should demonstrate an ability to complete frequency coordination using an NTIA automated process such that the Commission is able to fulfill its statutory obligation under the LCA to increase automation with NTIA coordination similar to the automation in the 70/80/90 GHz service rules. As a general matter, commenters support our proposal to require applicants to demonstrate their ability to complete frequency coordination using an NTIA automated process. Federated Wireless requests that applicants demonstrate the ability to support automation for “green light” and “yellow light” responses, enabling rapid resolution of potential interference issues. AFTRCC suggests that we seek a demonstration that applicants have experience developing software tools for automation of coordination requests, which would indicate the applicant's level of experience.

We adopt our proposal to require applicants to demonstrate an ability to complete frequency coordination using an NTIA automated process. Although we require this demonstration, we decline to compel a specific type of system or process. This approach provides the prospective space launch frequency coordinator flexibility in developing an appropriate interface, while ensuring that the LCA directive is met. Although it is unclear at this time whether NTIA's automated system for coordinating space launch requests will in fact incorporate a “green light” and “yellow light” response functionality similar to that currently available for coordination requests in the Commission's 70/80/90 GHz service, we will consider a demonstration of this capability, if available, as a factor in evaluating space launch frequency coordinator applications.

The Bureau will subsequently issue a Public Notice announcing the opening of a filing window for interested parties to submit applications on ECFS, including instructions for obtaining an FCC Registration Number and for filing applications.

This document shall be effective 30 days after publication in the Federal Register, except for new or modified information collections contained herein, for which the Bureau will seek such review by the Office of Management and Budget as provided below. Following completion of OMB review, the Bureau will announce the effective date of any such new or modified information collections.

Federal Communications Commission.
Amy Brett,
Chief of Staff, Wireless Telecommunications Bureau.

[FR Doc. 2025-07641 Filed 5-1-25; 8:45 am]

BILLING CODE 6712-01-P